DEPARTMENT OF COMMERCE

National Oceanic and Atmospheric Administration

[RTID 0648-XB685]

New England Fishery Management Council; Public Meeting; Correction

AGENCY: National Marine Fisheries Service (NMFS), National Oceanic and Atmospheric Administration (NOAA), Commerce.

ACTION: Notice of addendum to a public meeting.

SUMMARY: The New England Fishery Management Council (Council) is scheduling a public joint meeting of its Habitat Committee via webinar to consider actions affecting New England fisheries in the exclusive economic zone (EEZ). Recommendations from this group will be brought to the full Council for formal consideration and action, if appropriate.

DATES: This meeting will be held on Tuesday, January 18, 2022 at 9 a.m.

ADDRESSES: All meeting participants and interested parties can register to join the webinar at https://attendee.gotowebinar.com/register/6570510383641205518.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The original notice published on January 6, 2022 (87 FR 762). This correction notice adds the following additional agenda item:

The committee plans to discuss a clam industry request for secretarial emergency action related to the Great South Channel Habitat Management Area, as well as a related meeting between New England Fishery Management Council and Mid-Atlantic Fishery Management Council leadership.

All other information that was previously published remains unchanged.

Authority: 16 U.S.C. 1801 et seq.

Dated: January 7, 2022.
Tracey L. Thompson,
Acting Deputy Director, Office of Sustainable Fisheries, National Marine Fisheries Service.

[FR Doc. 2022-00420 Filed 1-11-22; 8:45 am]

BILLING CODE 3510-22-P